DEPARTMENT OF COMMERCE

International Trade Administration

[A-552-801]

Certain Frozen Fish Fillets From the Socialist Republic of Vietnam: Initiation of Antidumping Duty New Shipper Review

AGENCY: Import Administration, International Trade Administration, Department of Commerce.

DATES: Effective Date: March 27, 2009.

SUMMARY: The Department of Commerce (“Department”) has determined that a request for a new shipper review (“NSR”) of the antidumping duty order on certain frozen fish fillets (“fish fillets”) from the Socialist Republic of Vietnam (“Vietnam”), received on February 6, 2009, meets the statutory and regulatory requirements for initiation. The period of review (“POR”) for this NSR is August 1, 2008-January 31, 2009.

FOR FURTHER INFORMATION CONTACT: Tim Lord, AD/CVD Operations, Office 9, Import Administration, International Trade Administration, U.S. Department of Commerce, 14th Street and Constitution Avenue, NW., Washington, DC 20230; telephone: 202-482-7425.

SUPPLEMENTARY INFORMATION:

Background

The notice announcing the antidumping duty order on fish fillets from Vietnam was published in the Federal Register on August 12, 2003. See Notice of Antidumping Duty Order: Certain Frozen Fish Fillets from the Socialist Republic of Vietnam, 68 FR 47909 (August 12, 2003).¹ On February 6, 2009, pursuant to section 751(a)(2)(B)(i) of the Tariff Act of 1930, as amended (“Act”), and 19 CFR 351.214(c), the Department received a NSR request from NTSF Seafoods Joint Stock Company (“NTSF”). NTSF certified that it is the producer and exporter of the subject merchandise upon which the request was based. NTSF also submitted a public version, which adequately summarized proprietary information and provided explanations as to why certain proprietary information is not capable of summarization.

¹ Therefore, a semi-annual request for a NSR, based on the annual anniversary month, August, was due to the Department by February 28, 2009. See 19 CFR 351.214(d)(1).

Pursuant to section 751(a)(2)(B)(i)(I) of the Act and 19 CFR 351.214(b)(2)(i), NTSF certified that it did not export fish fillets to the United States during the period of investigation (“POI”). In addition, pursuant to section 751(a)(2)(B)(i)(II) of the Act and 19 CFR 351.214(b)(2)(iii)(A), NTSF certified that, since the initiation of the investigation, it has never been affiliated with any Vietnamese exporter or producer who exported fish fillets to the United States during the POI, including those not individually examined during the investigation. As required by 19 CFR 351.214(b)(2)(iii)(B), NTSF also certified that its export activities were not controlled by the central government of Vietnam.

In addition to the certifications described above, pursuant to 19 CFR 351.214(b)(2)(iv), NTSF submitted documentation establishing the following: (1) The date on which NTSF first shipped fish fillets for export to the United States and the date on which the fish fillets were first entered, or withdrawn from warehouse, for consumption; (2) the volume of its first shipment; and (3) the date of its first sale to an unaffiliated customer in the United States.

The Department conducted U.S. Customs and Border Protection (“CBP”) database queries in an attempt to confirm that NTSF's shipments of subject merchandise had entered the United States for consumption and that liquidation of such entries had been properly suspended for antidumping duties. The Department also examined whether the CBP data confirmed that such entries were made during the NSR POR. The information we examined was consistent with that provided by NTSF.

Initiation of New Shipper Reviews

Pursuant to section 751(a)(2)(B) of the Act and 19 CFR 351.214(d)(1), the Department finds that NTSF meets the threshold requirements for initiation of a NSR for the shipments of fish fillets from Vietnam it produced and exported. See “Memorandum to File from Tim Lord, Case Analyst, Certain Frozen Fish Fillets from Vietnam: Initiation of AD New Shipper Review for NTSF Seafoods Joint Stock Company,” (March 24, 2009):

The Department intends to issue the preliminary results of this NSR no later than 180 days from the date of initiation, and final results no later than 270 days from the date of initiation. See section 751(a)(2)(B)(iv) of the Act.

On August 17, 2006, the Pension Protection Act of 2006 (“H.R. 4”) was signed into law. Section 1632 of H.R. 4 temporarily suspends the authority of the Department to instruct CBP to collect a bond or other security in lieu of a cash deposit in new shipper reviews. Therefore, the posting of a bond under section 751(a)(B)(iii) of the Act in lieu of a cash deposit is not available in this case. Importers of fish fillets from Vietnam manufactured and/or exported by NTSF must continue to post cash deposits of estimated antidumping duties on each entry of subject merchandise at the current Vietnam-wide rate of 63.88 percent.

Interested parties requiring access to proprietary information in this NSR should submit applications for disclosure under administrative protective order in accordance with 19 CFR 351.305 and 351.306.

This initiation and notice are published in accordance with section 751(a)(2)(B) of the Act and 19 CFR 351.214 and 351.221(c)(1)(i).

Dated: March 24, 2009.
John M. Andersen,
Acting Deputy Assistant Secretary for Antidumping and Countervailing Duty Operations.

[FR Doc. E9-6909 Filed 3-26-09; 8:45 am]

BILLING CODE 3510-DS-P